DEPARTMENT OF ENERGY

Federal Energy Regulatory Commission

[Dockets Nos. RP99-322-000 and RP96-45-000]

Northern Border Pipeline Company; Notice of Informal Settlement Conference

August 11, 2000.

Take notice that an informal settlement conference will be convened in these proceedings on August 23 and 24, 2000 commencing at 10:00 a.m. at the offices of the Federal Energy Regulatory Commission, 888 First Street, N.E., Washington, D.C. 20426, for the purpose of exploring the possible settlement of the issues and drafting possible settlement documents in this proceeding.

Any party, as defined by 18 CFR 385.102(c), or any participant as defined by 18 CFR 385.102(b), is invited to attend. Persons wishing to become a party must move to intervene and receive intervenor status pursuant to the Commission's regulations (18 CFR 385.214).

For additional information, contact Marc G. Denkinger (202) 208-2215, William J. Collins (202) 208-0248, or Joel M. Cockrell (202) 208-1184.

David P. Boergers,
Secretary.

[FR Doc. 00-20912 Filed 8-16-00; 8:45 am]

BILLING CODE 6717-01-M